DEPARTMENT OF TRANSPORTATION

Federal Aviation Administration

14 CFR Part 120

[Docket No. FAA-2020-1058]

RIN 2120-AK09

Drug and Alcohol Testing of Certificated Repair Station Employees Located Outside of the United States; Correction

AGENCY: Federal Aviation Administration (FAA), U.S. Department of Transportation (DOT).

ACTION: Final rule; correction.

SUMMARY: On December 18, 2024, the Federal Aviation Administration (FAA) published a final rule in the Federal Register titled “Drug and Alcohol Testing of Certificated Repair Station Employees Located Outside of the United States”.

The final rule inadvertently mischaracterized two commenters which does not accurately reflect their respective memberships. This document makes those corrections.

DATES: Effective January 17, 2025.

FOR FURTHER INFORMATION CONTACT: Nancy Rodriguez Brown, Office of Aerospace Medicine, Drug Abatement Division, Federal Aviation Administration, 800 Independence Avenue SW, Washington, DC 20591; telephone (202) 267-8442; email: drugabatement@faa.gov.

SUPPLEMENTARY INFORMATION: On December 18, 2024, the FAA published the final rule Drug and Alcohol Testing of Certificated Repair Station Employees Located Outside of the United States (RIN 2120-AK09) in the Federal Register at 89 FR 103416. That document requires certificated repair stations located outside the territory of the United States (U.S.) whose employees perform safety-sensitive maintenance functions on certain air carrier aircraft to conduct alcohol and controlled substance testing in a manner acceptable to the Administrator and consistent with the applicable laws of the country in which the repair station is located. The document also directs the repair station to comply with the requirements of the Drug and Alcohol Testing Program published by the FAA and the Procedures for Transportation Workplace Drug Testing Programs published by the Department of Transportation, as proposed. However, the documents also allows foreign governments, on behalf of certificated repair stations within their territories, and individual foreign repair stations subject to the rule to obtain the Administrator's recognition of a compatible alternative that contains minimum criteria in lieu of compliance with certain components of the Drug and Alcohol Testing Program.

In that final rule, the FAA inadvertently mischaracterized two commenters which does not accurately reflect their respective memberships. This document makes those corrections

Correction

In the final rule FR Doc. 2024-29837, beginning on page 103416, in the Federal Register of December 18, 2024, make the following correction: On page 103423 in the first column, in the first full paragraph, correct the last sentence to read as: “The 17 supporting commenters included transportation labor groups and unions (International Brotherhood of Teamsters (Teamsters), Transport Workers Union of America (TWU), and Transportation Trades Department, AFL-CIO (TTD)), a pilots' union (Allied Pilots Association (APA)), a trade association (National Drug & Alcohol Screening Association (NDASA)), a Substance Abuse Professional (SAP) Directory service (SAPList), a software provider (Nexus 33 Group LLC), and 10 individuals.”

Issued under authority provided by 49 U.S.C. 106(f), 45102, 44731(d) in Washington, DC.

Brandon Roberts,
Executive Director, Office of Rulemaking.

[FR Doc. 2024-30848 Filed 12-26-24; 8:45 am]

BILLING CODE 4910-13-P